DEPARTMENT OF EDUCATION

[Docket No.: ED-2023-SCC-0186]

Agency Information Collection Activities; Submission to the Office of Management and Budget for Review and Approval; Comment Request; 2023-24 School Pulse Panel (SPP) December and January Questionnaire Items Change Request

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before November 29, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2023-24 Quarter 3 Revision.

OMB Control Number: 1850-0975.

Type of Review: Revision of a currently approved ICR.

Respondents/Affected Public: State, Local, and Tribal Governments.

Total Estimated Number of Annual Responses: 53,955.

Total Estimated Number of Annual Burden Hours: 10,175.

Abstract: The School Pulse Panel is conducted by the National Center for Education Statistics (NCES), part of the Institute of Education Sciences (IES), within the United States Department of Education. Initially, the purpose of the study was to collect extensive real-time data on issues brought to light by the COVID-19 pandemic on students and staff, as well as other important education-related issues that could inform data-driven policy decisions, in U.S. public primary, middle, high, and combined-grade schools and districts. Specifically, this was accomplished by collecting data on, among other things, the percentage of the student body starting the school year behind grade level, the types of learning recovery strategies being implemented and the perceived effectiveness of those strategies, classroom behavioral concerns, mental health services provided, and staffing issues. NCES was able to capture each of these pieces in an expedited fashion and report out findings in a matter of weeks, providing rich information to help tell the full story of what students, staff, and administrators were battling on a daily basis. The success of the quick-turnaround nature of the SPP was a clear indication of the immense value of having a real-time data collection vehicle readily available to capture content on prominent events occurring in the school environment. Therefore, stakeholders and ED leadership have asked NCES to continue this type of data collection methodology for the 2023-24 school year and beyond with content extending beyond COVID-19 pandemic impacts on the education environment.

The preliminary activities package was formally cleared in February 2023 (OMB# 1850-0975 v.1) and the SPP monthly data collection package was formally cleared in June 2023 (OMB# 1850-0975 v.2). A change request (v.3) was cleared in July 2023 to make changes to the September and October instruments and August 2023-January 2024 communication materials. A second quarterly package was formally cleared in October 2023 (OMB# 1850-0975 v.4), which contained the November 2023-January 2024 questionnaires and the February 2024-June 2024 communication materials. A change request (v.5) was cleared in October 2023 to make changes to the December 2023 and January 2024 instruments; content on these surveys was undergoing cognitive testing during the 30-day public comment period. The purpose of this memo is to accompany a revision (v.6) and to describe the changes to the research materials contained in that revision. The new revision is focused on a 30-day public comment period on new items (within the scope of the research domains previously established) to be collected on the February 2024, March 2024, and April 2024 instruments (Appendix C3). These items are considered very close to final and will go through minimal testing with school personnel to examine any comprehension concerns with item wording. Feedback from this testing, as well as additional input from SPP stakeholders, will result in modifications and additions that will be reflected in future change requests.

Dated: October 24, 2023.
Stephanie Valentine,
PRA Coordinator, Strategic Collections and Clearance Governance and Strategy Division, Office of Chief Data Officer, Office of Planning, Evaluation and Policy Development.

[FR Doc. 2023-23842 Filed 10-27-23; 8:45 am]

BILLING CODE 4000-01-P